DEPARTMENT OF HEALTH AND HUMAN SERVICES

Food and Drug Administration

Request for Nominations for Nonvoting Members Representing Industry Interests on Public Advisory Panels or Committees; Food Advisory Committee

AGENCY: Food and Drug Administration, HHS.

ACTION: Notice.

SUMMARY: The Food and Drug Administration (FDA) is requesting nominations for a nonvoting industry representative to serve on the Food Advisory Committee (the Committee) in FDA's Center for Food Safety and Applied Nutrition (CFSAN).

DATES: Industry organizations interested in participating in the selection of a nonvoting member to represent industry for the pending vacancy on the Committee must send a letter to FDA by April 21, 2005, stating their interest. Concurrently, nomination materials for prospective candidates should be sent to FDA by April 21, 2005. A nominee may either be self-nominated or nominated by an organization to serve as a nonvoting industry representative.

ADDRESSES: All letters of interest and nominations should be sent to Marcia Moore (see FOR FURTHER INFORMATION CONTACT).

FOR FURTHER INFORMATION CONTACT: Marcia Moore, Center for Food Safety and Applied Nutrition (HFS-6), Food and Drug Administration, 5100 Paint Branch Pkwy., College Park, MD 20740, 301-436-2397, FAX 301-436-2633, e-mail: marcia.moore@cfsan.fda.gov.

SUPPLEMENTARY INFORMATION: The agency intends to fill a vacancy for a nonvoting industry representative on the Committee identified in section I of this document.

I. Functions

The Advisory Committee Under the Purview of CFSAN

Food Advisory Committee

The Committee shall provide advice primarily to the Director of CFSAN, and as needed to the Commissioner of Food and Drugs (the Commissioner) and other appropriate officials, on emerging food safety, food science, nutrition, and other food-related health issues that FDA considers of primary importance for its food and cosmetics programs. The Committee may be charged with reviewing and evaluating available data and making recommendations on matters such as those relating to the following topics: (1) Broad scientific and technical food or cosmetic related issues, (2) the safety of new foods and food ingredients, (3) labeling of foods and cosmetics, (4) nutrient needs and nutritional adequacy, and (5) safe exposure limits for food contaminants. The Committee also may be asked to provide advice and make recommendations on ways of communicating to the public the potential risks associated with these issues and on approaches that might be considered for addressing the issues.

II. Selection Procedure

Any organization in the food manufacturing industry wishing to participate in the selection of a nonvoting member to represent industry on the Committee should send a letter stating that interest to the FDA contact (see FOR FURTHER INFORMATION CONTACT) within 30 days of publication of this notice. Persons who nominate themselves as an industry representative for the Committee will not participate in the selection process. It is, therefore, recommended that nominations be made by someone within an organization, trade association, or firm who is willing to participate in the selection process. Within the subsequent 30 days, FDA will send a letter to each organization and a list of all nominees along with their resumes. The letter will state that the interested organizations are responsible for conferring with one another to select a candidate, within 60 days after receiving the letter, to serve as the nonvoting member representing on the Committee. If no individual is selected within that 60 days, the Commissioner may select the nonvoting member to represent industry interests.

III. Application Procedure

Individuals may nominate themselves or an organization representing the food manufacturing industry may nominate one or more individuals to serve as a nonvoting industry representative. A current curriculum vitae (which includes the nominee's business address, telephone number, and e-mail address) and the name of the committee of interest should be sent to the FDA contact person (see FOR FURTHER INFORMATION CONTACT). FDA will forward all nominations to the organizations that have expressed interest in participating in the selection process for that committee.

FDA has a special interest in ensuring that women, minority groups, individuals with physical disabilities, and small businesses are adequately represented on its advisory committees. Therefore, the agency encourages nominations for appropriately qualified candidates from these groups.

This notice is issued under the Federal Advisory Committee Act (5 U.S.C. app. 2) and 21 CFR part 14, relating to advisory committees.

Dated: March 14, 2005.
Shelia Dearybury Walcoff,
Associate Commissioner for External Relations.

[FR Doc. 05-5552 Filed 3-21-05; 8:45 am]

BILLING CODE 4160-01-S